DEPARTMENT OF ENERGY

Environmental Management Site-Specific Advisory Board Chairs

AGENCY: Office of Environmental Management, Department of Energy.

ACTION: Notice of open virtual meeting.

SUMMARY: This notice announces an online virtual meeting of the Environmental Management Site-Specific Advisory Board (EM SSAB) Chairs. The Federal Advisory Committee Act requires that public notice of this conference call be announced in the Federal Register.

DATES:

Tuesday, April 20, 2021; 12:00 p.m.-4:00 p.m. EDT

Wednesday, April 21, 2021; 12:00 p.m.-4:00 p.m. EDT

ADDRESSES: This meeting will be held virtually via Microsoft Teams. To attend, please contact Alyssa Harris by email, Alyssa.Harris@em.doe.gov, no later than 5:00 p.m. EDT on Tuesday, April 13, 2021.

To Submit Public Comment: Public comments will be accepted via email prior to and after the meeting. Comments received no later than 5:00 p.m. EDT on Tuesday, April 13, 2021 will be read aloud during the virtual meeting. Comments will also be accepted after the meeting by no later than 5:00 p.m. EDT on Tuesday, April 27, 2021. Please send comments to Alyssa Harris at Alyssa.Harris@em.doe.gov.

FOR FURTHER INFORMATION CONTACT: Alyssa Harris, EM SSAB Federal Coordinator. U.S. Department of Energy, 1000 Independence Avenue SW, Washington, DC 20585. Phone (202) 430-9624 or Email: Alyssa.Harris@em.doe.gov.

SUPPLEMENTARY INFORMATION:

Purpose of the Board: The purpose of the Board is to make recommendations to DOE-EM and site management in the areas of environmental restoration, waste management, and related activities.

Tentative Agenda Topics:

Tuesday, April 20, 2021

• Opening Remarks

• Update from EM Senior Leadership

• EM SSAB Chairs' Round Robin

• Reading of Public Comment

• Update from Associate Principal Deputy Assistant Secretary for Regulatory & Policy Affairs

• EM Budget Update

• Communications Presentation by the Consortium for Risk Evaluation with Stakeholder Participation (CRESP)

Wednesday, April 21, 2021

• Charge Presentation and Discussion

• Reading of Public Comment

• Charge Presentation and Discussion

• Open Discussion/Board Business

Public Participation: The online virtual meeting is open to the public. Written statements may be filed with the Board either before or after the meeting by sending them to Alyssa Harris at the aforementioned email address. The Designated Federal Officer is empowered to conduct the conference call in a fashion that will facilitate the orderly conduct of business. Individuals wishing to make public comments should email them as directed above.

Minutes: Minutes will be available by writing or calling Alyssa Harris at the address or phone number listed above. Minutes will also be available at the following website: https://energy.gov/em/listings/chairs-meetings.

Signed in Washington, DC, on March 18, 2021.
LaTanya Butler,
Deputy Committee Management Officer.

[FR Doc. 2021-06046 Filed 3-23-21; 8:45 am]

BILLING CODE 6450-01-P